DEPARTMENT OF ENERGY

Federal Energy Regulatory Commission

[Project No. 2662-012; Project No. 12968-001]

FirstLight Hydro Generating Company; City of Norwich Department of Public Utilities; Notice of Applications Accepted for Filing, Soliciting Motions To Intervene and Protests, Ready for Environmental Analysis, and Soliciting Comments, Recommendations, Preliminary Terms and Conditions, and Preliminary Fishway Prescriptions

Take notice that the following hydroelectric applications have been filed with the Commission and are available for public inspection.

a. Type of Application: New Major License.

b. Project Nos.: 2662-012 and 12968-001.

c. Date filed: August 31, 2010 (P-2662) and August 27, 2010 (P-12968).

d. Applicants: Existing licensee—FirstLight Hydro Generating Company (FirstLight); and Competitor—City of Norwich Department of Public Utilities (Norwich Public Utilities).

e. Name of Project: Scotland Hydroelectric Project.

f. Location: The existing project is located on the Shetucket River, in Windham County, Connecticut. The project does not occupy Federal lands.

g. Filed Pursuant to: Federal Power Act 16 U.S.C. 791(a)-825(r).

h. Applicant Contact:

For Project No. 2662: John Whitfield, Senior Project Engineer, FirstLight Hydro Generating Company, 20 Church Street, Hartford, CT 06103.

For Project No. 12968: John F. Bilda, General Manager, Norwich Public Utilities, 16 South Golden Street, Norwich, CT 06360.

i. FERC Contact: Janet Hutzel, telephone (202) 502-8675, or by e-mail janet.hutzel@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The applications have been accepted for filing and are now ready for environmental analysis (EA).

l. Project Description: The existing project includes the following facilities: (1) A 480-foot-long earthen dam with a 12-inch reinforced concrete corewall consisting of (a) a 183-foot-long, 32.5-foot-high earthen dike with a top elevation 90.0 feet local datum; (b) a 119-foot-long, 34-foot-high Tainter gate section with a sill elevation at 64 feet local datum and a 3-foot-wide transition section, five 20-foot-wide bays, and four 4-foot-wide gate piers; (c) an 89-foot-long, 35-foot-high Ambursen-type ungated spillway section with a crest elevation of 75.38 feet local datum; (d) an 18.83-foot-long gravity-type ungated spillway section with a crest elevation of 75.38 feet local datum and 30-inch wooden pin-type flashboards; and (e) a 70-foot-long powerhouse and intake integral with the dam containing a single 2.0-megawatt (MW) turbine-generator; (2) a 134-acre reservoir at an elevation of 77.9 feet local datum with a usable storage capacity of 268 acre-feet; and (3) appurtenant facilities.

The existing Scotland Project operates in a run-of-river mode during high flow periods and in a store-and-release mode, with ponding, during low-flow periods.

Both applicants propose to increase capacity by installing an additional turbine and generator in the existing powerhouse. FirstLight's proposal would increase capacity by 1.026 MW. Norwich Public Utilities' proposal would increase capacity by 3.0 MW. Both applicants propose to operate the project as run-of-river at all times.

m. Copies of the applications are available for review at the Commission in the Public Reference Room or may be viewed on the Commission's Web site at http://www.ferc.gov using the “eLibrary” link. Enter the docket numbers excluding the last three digits in the docket number field to access the documents. For assistance, contact FERC Online Support. Copies are also available for inspection and reproduction at the addresses in item (h) above.

Register online at http://www.ferc.gov/docs-filing/esubscription.asp to be notified via e-mail of new filings and issuances related to these or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the applications directly from the applicants. A copy of any protest or motion to intervene must be served upon each representative of the applicant specified in the particular application. A copy of all other filings in reference to the application must be accompanied by proof of service on all persons listed in the service list prepared by the Commission in this proceeding, in accordance with 18 CFR 4.34(b) and 385.2010.

o. Procedural Schedule:

The applications will be processed according to the following revised Hydro Licensing Schedule. Revisions to the schedule may be made as appropriate.

Milestone | Target date
Issuance of the Better Adapted Statement Request | July 15, 2011.
Filing of recommendations, preliminary terms and conditions, and preliminary fishway prescriptions | September 13, 2011.
Filing of the Better Adapted Statement | September 13, 2011.
Commission issues EA | January 11, 2012.
Comments on EA | February 10, 2012.
Modified terms and conditions | April 10, 2012.

p. Final amendments to the applications must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: July 15, 2011.
Kimberly D. Bose,
Secretary.

[FR Doc. 2011-18439 Filed 7-20-11; 8:45 am]

BILLING CODE 6717-01-P